DEPARTMENT OF HOMELAND SECURITY

Coast Guard

[Docket No. USCG-2011-0877]

National Offshore Safety Advisory Committee

AGENCY: United States Coast Guard.

ACTION: Committee Management; Notice of Federal Advisory Committee Meeting.

SUMMARY: The National Offshore Safety Advisory Committee (NOSAC) will meet on November 15, 2011, in Houston, Texas to discuss various issues related to safety of operations and other matters affecting the oil and gas offshore industry. The meeting will be open to the public.

DATES: NOSAC will meet Tuesday, November 15, 2011, from 9 a.m. to 4 p.m. Please note that the meeting may close early if the committee has completed its business or be extended based on the level of public comments.

ADDRESSES: The meeting will be held at Hilton Houston NASA Clear Lake, Discovery Ballroom, 3000 NASA Road One, Houston, Texas, 77058-4322.

For information on facilities or services for individuals with disabilities or to request special assistance at the meeting, contact the person listed in “FOR FURTHER INFORMATION CONTACT” as soon as possible.

To facilitate public participation, we are inviting public comment on the issues to be considered by the committee as listed in the “Agenda” section below. Comments must be submitted in writing no later than November 1, 2011, and must be identified by USCG-2011-0877 and may be submitted by one of the following methods:

• Federal eRulemaking Portal: http://www.regulations.gov. Follow the instructions for submitting comments.

• Fax: (202) 493-2251.

• Mail: Docket Management Facility (M-30), U.S. Department of Transportation, West Building Ground Floor, Room W12-140, 1200 New Jersey Avenue, SE., Washington, DC 20590-0001.

• Hand Delivery: Same as mail address above, between 9 a.m. and 5 p.m., Monday through Friday, except Federal holidays. The telephone number is 202-366-9329.

Instructions: All submissions received must include the words “Department of Homeland Security” and the docket number for this action. Comments received will be posted without alteration at http://www.regulations.gov, including any personal information provided. You may review a Privacy Act notice regarding our public dockets in the January 17, 2008, issue of the Federal Register (73 FR 3316).

Docket: For access to the docket to read documents or comments related to this Notice, go to http://www.regulations.gov.

A public comment period will be held during the meeting on November 15, 2011, and speakers are requested to limit their comments to 3 minutes. Please note that the public comment period may end before the time indicated, following the last call for comments. Contact the individual listed below to register as a speaker.

FOR FURTHER INFORMATION CONTACT: Commander Rob Smith, Designated Federal Officer of NOSAC, Commandant (CG-5222), U.S. Coast Guard, 2100 Second Street, SW., Stop 7126, Washington, DC 20593-0001 or Mr. Kevin Pekarek, Alternate Designated Federal Officer of NOSAC, Commandant (CG-5222), U.S. Coast Guard, 2100 Second Street, SW., Stop 7126, Washington, DC 20593-0001; telephone (202) 372-1386, fax (202) 372-1926. If you have questions on viewing or submitting material to the docket, call Renee V. Wright, Program Manager, Docket Operations, telephone 202-366-9826.

SUPPLEMENTARY INFORMATION: Notice of this meeting is given under the Federal Advisory Committee Act, 5 U.S.C. App. (Pub. L. 92-463). The National Offshore Safety Advisory Committee (NOSAC) provides advice and recommendations to the Department of Homeland Security on matters and actions concerning activities directly involved with or in support of the exploration of offshore mineral and energy resources insofar as they relate to matters within Coast Guard jurisdiction.

Agenda

The NOSAC will meet, review and discuss reports and recommendations received from the Medical Evacuation of Injured Divers subcommittee and the Mississippi Canyon Incident Report subcommittee. The Committee will then use this information to formulate recommendations to the agency.

A complete agenda is as follows:

(1) Roll call of committee members and determination of a quorum.

(2) Approval of minutes from the May 19, 2011, meeting.

(3) Committee Administration.

a. Introduction of new members.

b. Nominations for Committee Chair and Vice Chair for presentation to the Commandant.

c. Discussion of Committee By-Laws.

d. DFO announcements.

(4) Presentation and discussion of reports and recommendations from the subcommittees on:

(a) Medical Evacuation of Injured Divers.

(b) Mississippi Canyon Incident Reports subcommittee, to include the appointment of a Co-chairman.

(5) Establishment of a sub-committee to work on the task to evaluate the requirements for licensing mariners who will man and operate large OSVs.

(6) Offshore Operators Committee (OOC) update regarding medical evacuations from the OCS.

(7) An update on USCG regulations and Federal Register notices.

(8) USCG Briefing on Joint Investigation Team for DEEPWATER HORIZON drilling rig explosion and sinking.

(9) Update from the Bureau of Ocean Energy Management Regulation and Enforcement concerning their reorganization, rules and regulations, etc. Discussion to include USCG/BOEMRE Memorandum of Agreement OCS-06 and contracting of the National Research Council's Marine Board to conduct a study on regulating worker safety in connection with the development of offshore renewable energy on the Outer Continental Shelf (OCS).

(10) EO 13580—Domestic Energy Development and Permitting in Alaska; USCG and BOEMRE processes involved.

(11) Updates on International Maritime Organization (IMO) activities of interest to the OCS community.

(12) Briefing on the activities of Ocean Energy Safety Advisory Committee.

(13) Use of Liquefied Natural Gas (LNG) as fuel for internal engines.

(14) Period for Public comment.

(15) Adjournment of meeting.

A copy of each report is available at the https://www.fido.gov Web site or by contacting Kevin Y Pekarek. Use “code 68” to identify NOSAC when accessing this material. Once you have accessed the Committee page, click on the meetings tab and then the “View” button for the meeting dated November 15, 2011, to access the information for this meeting. Minutes will be available approximately 30 days after this meeting. Both minutes and documents applicable for this meeting can also be found at an alternative site using the following web address: https://homeport.uscg.mil and use these key strokes: Missions>Port and Waterways>Safety Advisory Committee>NOSAC and then use the event key.

The meeting will be recorded by a court reporter. A transcript of the meeting and any material presented at the meeting will be made available through the https://www.fido.gov Web site.

The committee will review the information presented on each issue, deliberate on any recommendations presented in the subcommittees' reports, and formulate recommendations for the Department's consideration. The committee will also receive tasking from CDR Rob Smith, Designated Federal Officer, on evaluating the various requirements for licensing mariners who will man and operate large OSVs, and to make recommendations on same.

Dated: October 3, 2011.
F. J. Sturm,
Deputy Director of Commercial Regulations and Standards.

[FR Doc. 2011-26126 Filed 10-7-11; 8:45 am]

BILLING CODE 9110-04-P